DEPARTMENT OF THE INTERIOR

Bureau of Land Management

[PO #4820000251]

Notice of Availability of the Record of Decision for Adopting the U.S. Fish and Wildlife Service Final Environmental Impact Statement for the Barred Owl Management Strategy and Implementation of the Barred Owl Management Strategy in Western Oregon

AGENCY: Bureau of Land Management, Interior

ACTION: Notice of availability.

SUMMARY: The Bureau of Land Management (BLM) announces the availability of the Record of Decision (ROD) adopting the U.S. Fish and Wildlife Service (FWS) Final Environmental Impact Statement (EIS) for the Barred Owl Management Strategy and implementation of the strategy in western Oregon. The ROD constitutes the decision of the BLM.

DATES: Steven Feldgus and Barry R. Bushue, State Director, Oregon/Washington, signed the ROD on December 31, 2024.

ADDRESSES: The ROD is available online at https://eplanning.blm.gov/eplanning-ui/project/2034778/510.

FOR FURTHER INFORMATION CONTACT: Tye Morgan, Program Analyst/Planner and Environmental Coordinator, telephone (541) 471-6583; address 1220 SW 3rd Ave., Portland, OR 97204; email tamorgan@blm.gov. Individuals in the United States who are deaf, deafblind, hard of hearing, or have a speech disability may dial 711 (TTY, TDD, or TeleBraille) to access telecommunications relay services for contacting Tye Morgan. Individuals outside the United States should use the relay services offered within their country to make international calls to the point-of-contact in the United States.

SUPPLEMENTARY INFORMATION: The BLM is adopting the Final EIS for the Barred Owl Management Strategy prepared by the FWS (89 FR 55647, July 5, 2024) in order to implement barred owl management control on BLM-administered lands within the range of the northern spotted owl (NSO) in western Oregon, consistent with the FWS ROD (89 FR 72881, September 6, 2024). The FWS ROD includes the issuance of a Special Purpose permit under the Migratory Bird Treaty Act for implementation of the barred owl management strategy. On BLM-administered lands covered by the FWS ROD, the BLM will implement the strategy as a designee under the FWS Migratory Bird Special Purpose permit.

The BLM is adopting the FWS Final EIS without republication, consistent with 40 CFR 1506.3(b)(2).

There have been no changes made to the selected alternative between the publication of the FEIS and the ROD.

The Department of the Interior has approved the BLM's decision. Approval of the Record of Decision therefore constitutes the final decision of the Department of the Interior and is not subject to appeal under Departmental regulations at 43 CFR part 4.

(Authority: 40 CFR 1501.9).

Barry R. Bushue,
BLM Oregon/Washington State Director.

[FR Doc. 2025-00150 Filed 1-8-25; 8:45 am]

BILLING CODE 4331-24-P